COMMITTEE FOR PURCHASE FROM PEOPLE WHO ARE BLIND OR SEVERELY DISABLED

Procurement List; Proposed Additions and Deletions

AGENCY: Committee for Purchase From People Who Are Blind or Severely Disabled.

ACTION: Proposed additions to and deletions from the procurement list.

SUMMARY: The Committee is proposing to add product(s) to the Procurement List that will be furnished by nonprofit agencies employing persons who are blind or have other severe disabilities, and delete and service(s) previously furnished by such agencies.

DATES: Comments must be received on or before: December 25, 2021.

ADDRESSES: Committee for Purchase From People who are Blind or Severely Disabled, 1401 S. Clark Street, Suite 715, Arlington, Virginia 22202-4149.

FOR FURTHER INFORMATION CONTACT: For further information or to submit comments contact: Michael R. Jurkowski, Telephone: (703) 785-6404, or email CMTEFedReg@AbilityOne.gov.

SUPPLEMENTARY INFORMATION: This notice is published pursuant to 41 U.S.C. 8503 (a)(2) and 41 CFR 51-2.3. Its purpose is to provide interested persons an opportunity to submit comments on the proposed actions.

Additions

If the Committee approves the proposed additions, the entities of the Federal Government identified in this notice will be required to procure the product(s) and service(s) listed below from nonprofit agencies employing persons who are blind or have other severe disabilities.

The following product(s) are proposed for addition to the Procurement List for production by the nonprofit agencies listed:

Product(s)

NSN(s)—Product Name(s): 6840-00-NIB-0158—Lysol Disinfecting Wipes, Pre-Moistened, Lemon and Lime, Soft Pack

Designated Source of Supply: LC Industries, Inc., Durham, NC

Contracting Activity: FEDERAL ACQUISITION SERVICE, GSA/FSS GREATER SOUTHWEST ACQUISITI

Mandatory for: Total Government Requirement

Distribution: A-List

NSN(s)—Product Name(s): 8415-01-610-7322—Work Gloves, Unisex, Anti-Static Impact Control, Black, X-Small

8415-01-610-7323—Work Gloves, Unisex, Anti-Static Impact Control, Black, Medium

8415-01-610-7324—Work Gloves, Unisex, Anti-Static Impact Control, Black, Large

8415-01-610-7325—Work Gloves, Unisex, Anti-Static Impact Control, Black, Small

8415-01-610-7326—Work Gloves, Unisex, Anti-Static Impact Control, Black, Extra-Large

8415-01-610-7327—Work Gloves, Unisex, Anti-Static Impact Control, Black, Extra-Extra-Large

Designated Source of Supply: South Texas Lighthouse for the Blind, Corpus Christi, TX

Contracting Activity: FEDERAL ACQUISITION SERVICE, GSA/FSS GREATER SOUTHWEST ACQUISITI

Mandatory for: Broad Government Requirement

Distribution: B-List

NSN(s)—Product Name(s): MR 10815—Meat Baller, Includes Shipper 20815

Designated Source of Supply: Winston-Salem Industries for the Blind, Inc., Winston-Salem, NC

Contracting Activity: Military Resale-Defense Commissary Agency

Mandatory for: The requirements of military commissaries and exchanges in accordance with the 41 CFR 51-6.4

Distribution: C-List

NSN(s)—Product Name(s): 680000100S—Odor H2S Remover, Cleaner and Post Conditioner, KCD-X Lift Station & Sewer, 25 lb.

680000200S—Toxic Gases & Vapors (VOCs) Remover, KCD-X HAZMAT Handling, Response & Recovery, 25 lb.

680000300S—Wastewater Treatment, SETTApHY Flocculant, 25 lb.

680000000S—Treatment, KCD Wastewater Lift Station & Collections System (Sewer), 25 lb.

680000400S—Treatment, GasKat Odor & Toxic Gases Remover, 24 oz.

Designated Source of Supply: Brevard Achievement Center, Inc., Rockledge, FL

Contracting Activity: FEDERAL ACQUISITION SERVICE, GSA/FSS GREATER SOUTHWEST ACQUISITI

Mandatory for: Broad Government Requirement

Distribution: B-List

Deletions

The following service(s) are proposed for deletion from the Procurement List:

Service(s)

Service Type: Custodial service

Mandatory for: TSA, Central Illinois Regional Airport, Bloomington, IL, Airport Business Center, Bloomington, IL

Contracting Activity: PUBLIC BUILDINGS SERVICE, ACQUISITION MANAGEMENT DIVISION

Michael R. Jurkowski,
Acting Director, Business Operations.

[FR Doc. 2021-25787 Filed 11-24-21; 8:45 am]

BILLING CODE 6353-01-P